DEPARTMENT OF HOMELAND SECURITY

Federal Emergency Management Agency

[Docket ID FEMA-2016-0002; Internal Agency Docket No. FEMA-B-1656]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Shelby | City of Pelham (16-04-3762P) | The Honorable Gary W. Waters, Mayor, City of Pelham, P.O. Box 1419, Pelham, AL 35124 | City Hall, 3162 Pelham Parkway, Pelham, AL 35124 | http://www.msc.fema.gov/lomc | Nov. 25, 2016 | 010193
Shelby | Unincorporated areas of Shelby County (16-04-3762P) | The Honorable Rick Shepherd, Chairman, Shelby County Commission, 200 West College Street, Columbiana, AL 35051 | Shelby County Engineering Department, 506 Highway 70, Columbiana, AL 35051 | http://www.msc.fema.gov/lomc | Nov. 25, 2016 | 010191
Connecticut: New Haven | Town of Guilford (16-01-0895P) | The Honorable Joseph S. Mazza, First Selectman, Town of Guilford Board of Selectmen, 31 Park Street, Guilford, CT 06437 | Town Hall South, 50 Boston Street, Guilford, CT 06437 | http://www.msc.fema.gov/lomc | Dec. 23, 2016 | 090077
Florida:
Brevard | City of Titusville (16-04-5333P) | The Honorable James H. Tulley, Jr., Mayor, City of Titusville, P.O. Box 2806, Titusville, FL 32781 | City Hall, 555 South Washington Avenue, Titusville, FL 32796 | http://www.msc.fema.gov/lomc | Dec. 15, 2016 | 125152
Charlotte | Unincorporated areas of Charlotte County (16-04-3741P) | The Honorable Bill Truex, Chairman, Charlotte County Board of Commissioners, 18500 Murdock Circle, Suite 536, Port Charlotte, FL 33948 | Charlotte County Community Development Department, 18400 Murdock Circle, Port Charlotte, FL 33948 | http://www.msc.fema.gov/lomc | Dec. 9, 2016 | 020061
Collier | City of Naples (16-04-6553P) | The Honorable Bill Barnett, Mayor, City of Naples, 735 8th Street South, Naples, FL 34102 | Building Department, 295 Riverside Circle, Naples, FL 34102 | http://www.msc.fema.gov/lomc | Jan, 4, 2017 | 125130
Lake | City of Fruitland Park (16-04-6296X) | The Honorable Chris Bell, Mayor, City of Fruitland Park, 506 West Berckman Street, Fruitland Park, FL 34731 | Building Department, 506 West Berckman Street, Fruitland Park, FL 34731 | http://www.msc.fema.gov/lomc | Dec. 28, 2016 | 120387
Lee | City of Sanibel (16-04-4047P) | The Honorable Kevin Ruane, Mayor, City of Sanibel, 800 Dunlop Road, Sanibel, FL 33957 | Building Department, 800 Dunlop Road, Sanibel, FL 33957 | http://www.msc.fema.gov/lomc | Dec. 6, 2016 | 120402
Lee | Village of Estero (15-04-9858P) | Mr. Steve Sarkozy, Manager, Village of Estero, 9401 Corkscrew Palms Circle, Estero, FL 33928 | Village Hall, 9401 Corkscrew Palms Circle, Estero, FL 33928 | http://www.msc.fema.gov/lomc | Dec. 12, 2016 | 120260
Manatee | Unincorporated areas of Manatee County (16-04-3945P) | The Honorable Vanessa Baugh, Chair, Manatee County Board of Commissioners, 1112 Manatee Avenue West, Bradenton, FL 34205 | Manatee County Building and Development Services Division, 1112 Manatee Avenue West, Bradenton, FL 34205 | http://www.msc.fema.gov/lomc | Dec. 20, 2016 | 120153
Manatee | Unincorporated areas of Manatee County (16-04-5342P) | The Honorable Vanessa Baugh, Chair, Manatee County Board of Commissioners, 1112 Manatee Avenue West, Bradenton, FL 34205 | Manatee County Building and Development Services Division, 1112 Manatee Avenue West, Bradenton, FL 34205 | http://www.msc.fema.gov/lomc | Dec. 27, 2016 | 120153
Monroe | Village of Islamorada (16-04-5228P) | The Honorable Deb Gillis, Mayor, Village of Islamorada, 86800 Overseas Highway, Islamorada, FL 33036 | Planning and Development Department, 86800 Overseas Highway, Islamorada, FL 33036 | http://www.msc.fema.gov/lomc | Dec. 5, 2016 | 120424
Seminole | City of Altamonte Springs (16-04-5502P) | The Honorable Patricia Bates, Mayor, City of Altamonte Springs, 225 Newburyport Avenue, Altamonte Springs, FL 32701 | Public Works Department, 950 Calabria Drive, Altamonte Springs, FL 32701 | http://www.msc.fema.gov/lomc | Dec. 19, 2016 | 120290
Walton | City of Freeport (16-04-3900P) | The Honorable Sidney R. Barley, Mayor, City of Freeport, P.O. Box 339, Freeport, FL 32439 | City Hall, 112 Highway 20 West, Freeport, FL 32439 | http://www.msc.fema.gov/lomc | Dec. 9, 2016 | 120319
Georgia: Columbia | Unincorporated areas of Columbia County (16-04-5385P) | The Honorable Ron C. Cross, Chairman, Columbia County Board of Commissioners, P.O. Box 498, Evans, GA 30809 | Columbia County Engineering Services Department, Building A, East Wing, 630 Ronald Reagan Drive, Evans, GA 30809 | http://www.msc.fema.gov/lomc | Dec. 8, 2016 | 130059
Kentucky: Fayette | Lexington-, Fayette, Urban County Government (16-04-2392P) | The Honorable Jim Gray, Mayor, Lexington-Fayette, Urban County Government, 200 East Main Street, Lexington, KY 40507 | City Hall, 200 East Main Street, Lexington, KY 40507 | http://www.msc.fema.gov/lomc | Dec. 2, 2016 | 210067
Massachusetts:
Essex | City of Gloucester (16-01-0697P) | The Honorable Sefatia Romeo Theken, Mayor, City of Gloucester, 9 Dale Avenue, Gloucester, MA 01930 | City Hall, 9 Dale Avenue, Gloucester, MA 01930 | http://www.msc.fema.gov/lomc | Dec. 16, 2016 | 250082
Essex | Town of Manchester-by-the-Sea (16-01-0697P) | The Honorable Eli G. Boling, Chairman, Town of Manchester-by-the-Sea, Board of Selectmen, 10 Central Street, Manchester-by-the-Sea, MA 01944 | Town Hall, 10 Central Street, Manchester-by-the-Sea, MA 01944 | http://www.msc.fema.gov/lomc | Dec. 16, 2016 | 250090
Montana: Mineral | Unincorporated areas of Mineral County (16-08-0230P) | The Honorable Roman Zylawy, Chairman, Mineral County Board of Commissioners, 300 River Street, Superior, MT 59872 | Mineral County Government Office, 300 River Street, Superior, MT 59872 | http://www.msc.fema.gov/lomc | Dec. 29, 2016 | 300159
New Mexico:
Bernalillo | City of Albuquerque (16-06-1045P) | The Honorable Richard J. Berry, Mayor, City of Albuquerque, P.O. Box 1293, Albuquerque, NM 87103 | Development and Building Services Division, 600 2nd Street Northwest, Albuquerque, NM 87103 | http://www.msc.fema.gov/lomc | Dec. 13, 2016 | 350002
Santa Fe | City of Santa Fe (16-06-2549P) | The Honorable Javier M. Gonzales, Mayor, City of Santa Fe, P.O. Box 909, Santa Fe, NM 87501 | Land Use Department, Technical Review Division, P.O. Box 909, Santa Fe, NM 87501 | http://www.msc.fema.gov/lomc | Dec. 19. 2016 | 350070
North Carolina:
Alamance | Unincorporated Areas of Alamance County (15-04-9829P) | The Honorable Eddie Boswell, Chairman, Alamance County Board of Commissioners, 124 West Elm Street, Burlington, NC 27253 | Alamance County Inspections and Address Department, 215 North Graham Hopedale Road, Burlington, NC 27217 | http://www.msc.fema.gov/lomc | Dec. 8, 2016 | 370001
Graham | Unincorporated areas of Graham County (16-04-4666P) | The Honorable Jacob Nelms, Chairman, Graham County Board of Commissioners, 12 North Main Street, Robbinsville, NC 28771 | Graham County Emergency Services Division, 70 West Fort Hill Road, Robbinsville, NC 28771 | http://www.msc.fema.gov/lomc | Dec. 16. 2016 | 370105
McDowell | Unincorporated Areas of McDowell County (16-04-3711P) | The Honorable David N. Walker, Chairman, McDowell County Board of Commissioners, 60 East Court Street, Marion, NC 28752 | McDowell County Health Department, 408 Spaulding Road, Marion, NC 28752 | http://www.msc.fema.gov/lomc | Dec. 14, 2016 | 370148
Mecklenburg | City of Charlotte (15-04-3179P) | The Honorable Jennifer Roberts, Mayor, City of Charlotte, 600 East 4th Street, 15th Floor, Charlotte, NC 28202 | Charlotte-Mecklenburg Stormwater Services Division, 2145 Suttle Avenue, Charlotte, NC 28208 | http://www.msc.fema.gov/lomc | Jan 2. 2017 | 370159
Randolph | Unincorporated areas of Randolph County (16-04-3349P) | The Honorable Darrell Frye, Chairman, Randolph County Board of Commissioners, 725 McDowell Road, Asheboro, NC 27205 | Randolph County Planning and Zoning Department, 201 East Academy Street, Asheboro, NC 27203 | http://www.msc.fema.gov/lomc | Dec. 14, 2016 | 370195
Wake | Town of Holly Springs (16-04-1838P) | The Honorable Richard G. Sears, Mayor, Town of Holly Springs, P.O. Box 8, Holly Springs, NC 27540 | Engineering Department, 128 South Main Street, Holly Springs, NC 27540 | http://www.msc.fema.gov/lomc | Dec. 29, 2016 | 370403
Wake | Unincorporated areas of Wake County (16-04-1838P) | The Honorable James West, Chairman, Wake County Board of Commissioners, P.O. Box 550, Raleigh, NC 27602 | Wake County Environmental Services Department, Waverly F. Akins Office Building, 336 Fayetteville Street, Raleigh, NC 27601 | http://www.msc.fema.gov/lomc | Dec. 29, 2016 | 370368
Pennsylvania:
Allegheny | City of Pittsburgh (16-03-0541P) | The Honorable William Peduto, Mayor, City of Pittsburgh, City County Building, Room 512, 414 Grant Street, Pittsburgh, PA 15219 | City County Building, 414 Grant Street, Pittsburgh, PA 15219 | http://www.msc.fema.gov/lomc | Dec. 19, 2016 | 420063
Chester | Township of East Whiteland (16-03-0517P) | Mr. John Nagel, Manager, Township of East Whiteland, 209 Conestoga Road, Frazer, PA 19355 | Municipal Building, 209 Conestoga Road, Frazer, PA 19355 | http://www.msc.fema.gov/lomc | Dec. 28, 2016 | 420279
South Carolina:
Charleston | Town of Mount Pleasant (16-04-2610P) | The Honorable Linda Page, Mayor, Town of Mount Pleasant, 100 Ann Edwards Lane, Mount Pleasant, SC 29464 | Planning and Development Department, 100 Ann Edwards Lane, Mount Pleasant, SC 29464 | http://www.msc.fema.gov/lomc | Dec. 8, 2016 | 455417
Charleston | Town of Mount Pleasant (16-04-6229P) | The Honorable Linda Page, Mayor, Town of Mount Pleasant, 100 Ann Edwards Lane, Mount Pleasant, SC 29464 | Planning and Development Department, 100 Ann Edwards Lane, Mount Pleasant, SC 29464 | http://www.msc.fema.gov/lomc | Dec. 29, 2016 | 455417
Charleston | Unincorporated areas of Charleston County (16-04-2610P) | The Honorable J. Elliott Summey, Chairman, Charleston County Council, 4045 Bridgeview Drive, Suite B254, North Charleston, SC. 29405 | Charleston County Building Inspection Services Division, 4045 Bridgeview Drive North Charleston, SC. 29405 | http://www.msc.fema.gov/lomc | Dec. 8, 2016 | 455413
Texas:
Bexar | City of San Antonio (16-06-1242P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc | Dec. 30, 2016 | 480045
Bexar | City of San Antonio (16-06-2426P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc | Dec. 27, 2016 | 480045
Bexar | Unincorporated areas of Bexar County (16-06-1257P) | The Honorable Nelson W. Wolff, Bexar County Judge, 101 West Nueva Street, 10th Floor, San Antonio, TX 78205 | Bexar County Public Works Department, 233 North Pecos-La Trinidad Street, Suite 420, San Antonio, TX 78207 | http://www.msc.fema.gov/lomc | Dec. 6, 2016 | 1 480035
Collin | City of McKinney (16-06-2498P) | The Honorable Brian Loughmiller, Mayor, City of McKinney, P.O. Box 517, McKinney, TX 75069 | Engineering Department, 221 North Tennessee Street, McKinney, TX 75069 | http://www.msc.fema.gov/lomc | Dec. 12, 2016 | 480135
Denton | City of Corinth (16-06-2195P) | The Honorable Bill Heidemann, Mayor, City of Corinth, 2027 Vintage Circle, Corinth, TX 76210 | Planning and Development Department, 3300 Corinth Parkway, Corinth, TX 76208 | http://www.msc.fema.gov/lomc | Jan 5, 2017 | 481143
Denton | City of Denton (16-06-2195P) | The Honorable Chris A. Watts, Mayor, City of Denton, 215 East McKinney Street, Denton, TX 76201 | Engineering Department, 901-A Texas Street, Denton, TX 76509 | http://www.msc.fema.gov/lomc | Jan 5, 2017 | 480194
El Paso | City of El Paso (16-06-0755P) | The Honorable Oscar Leeser, Mayor, City of El Paso, 300 North Campbell Street, El Paso, TX 79901 | Development Department, 801 Texas Avenue, El Paso, TX 79901 | http://www.msc.fema.gov/lomc | Dec. 1, 2016 | 480194
Montgomery | Unincorporated areas of Montgomery County (16-06-0818P) | The Honorable Craig B. Doyal, Montgomery County Judge, 501 North Thompson Street, Suite 401, Conroe, TX 77301 | Montgomery County Permitting Department, 501 North Thompson Street, Suite 100, Conroe, TX 77301 | http://www.msc.fema.gov/lomc | Dec. 5, 2016 | 480483
Tarrant | City of Colleyville (16-06-1876P) | The Honorable Richard Newton, Mayor, City of Colleyville, 100 Main Street, Colleyville, TX 76034 | City Hall, 100 Main Street, Colleyville, TX 76034 | http://www.msc.fema.gov/lomc | Dec. 22, 2016 | 480590
Travis | Village of Bee Cave (16-06-0812P) | The Honorable Caroline Murphy, Mayor, Village of Bee Cave, 400 Galleria Parkway, Bee Cave, TX 78738 | Department of Planning and Development, 400 Galleria Parkway, Bee Cave, TX 78738 | http://www.msc.fema.gov/lomc | Dec. 2, 2016 | 481610
Williamson | City of Leander (16-06-0760P) | The Honorable Christopher Fielder, Mayor, City of Leander, P.O. Box 319, Leander, TX 78641 | Engineering Department, P.O. Box 319, Leander, TX 78641 | http://www.msc.fema.gov/lomc | Dec. 9, 2016 | 481536
Wilson | City of La Vernia (16-06-0558P) | The Honorable Robert Gregory, Mayor, City of La Vernia, P.O. Box 225, La Vernia, TX 78121 | City Hall, 102 East Chihuahua Street, La Vernia, TX 78121 | http://www.msc.fema.gov/lomc | Dec. 8, 2016 | 481050
Wilson | Unincorporated areas of Wilson County (16-06-0558P) | The Honorable Richard L. Jackson, Wilson County Judge, 1420 3rd Street, Suite 101, Floresville, TX 78114 | Wilson County Emergency Management Department, 800 10th Street, Building B, Floresville, TX 78114 | http://www.msc.fema.gov/lomc | Dec. 8. 2016 | 480230
Utah:
Utah | City of Saratoga Springs (16-08-0597P) | The Honorable Jim Miller, Mayor, City of Saratoga Springs, 1307 North Commerce Drive, Suite 200, Saratoga Springs, UT 84045 | City Hall, 1307 North Commerce Drive, Suite 200, Saratoga Springs, UT 84045 | http://www.msc.fema.gov/lomc | Dec. 19, 2016 | 490250
Utah | Unincorporated areas of Utah County (16-08-0597P) | The Honorable Larry Ellertson, Chairman, Utah County Board of Commissioners, 100 East Center Street, Suite 2300, Provo, Utah 84606 | Utah County Community Development Department, 100 East Center Street, Provo, Utah 84606 | http://www.msc.fema.gov/lomc | Dec. 19, 2016 | 495517
Weber | City of Ogden (16-08-0099P) | The Honorable Michael P. Caldwell, Mayor, City of Ogden, 2549 Washington Boulevard, Suite 910, Ogden, UT 84401 | City Hall, 2549 Washington Boulevard, Ogden, UT 84401 | http://www.msc.fema.gov/lomc | Dec. 27, 2016 | 37 490189
Weber | Unincorporated areas of Weber County (16-08-0099P) | The Honorable Kerry W. Gibson, Chairman, Weber County Commission, 2380 Washington Boulevard, Suite 360, Ogden, UT 84401 | Weber County Government Building, 2380 Washington Boulevard, Ogden, UT 84401 | http://www.msc.fema.gov/lomc | Dec. 27, 2016 | 490187
Virginia:
Arlington | Unincorporated areas of Arlington County (15-03-3059P) | Mr. Mark Schwartz, Manager, Arlington County, 2100 Clarendon Boulevard, Suite 302, Arlington, VA 22201 | Arlington County Department of Environmental Services, 2100 Clarendon Boulevard, Suite 813, Arlington, VA 22201 | http://www.msc.fema.gov/lomc | Dec. 2, 2016 | 515520
Fairfax | Unincorporated areas of Fairfax County (16-03-0196P) | Mr. Edward L. Long, Jr., Fairfax County Executive, 12000 Government Center Parkway, Fairfax, VA 22035 | Fairfax County Department of Public Works and Environmental Services, 12000 Government Center Parkway, Suite 449, Fairfax, VA 22035 | http://www.msc.fema.gov/lomc | Jan 2, 2017 | 515525
Loudoun | Town of Leesburg (16-03-2150P) | The Honorable David Butler, Mayor, Town of Leesburg, 25 West Market Street, Leesburg, VA 20176 | Department of Plan Review, 25 West Market Street, Leesburg, VA 20176 | http://www.msc.fema.gov/lomc | Dec. 16, 2016 | 510091
Prince William | Unincorporated areas of Prince William County (16-03-0196P) | Mr. Christopher E. Martino, Acting Prince William County Executive, 1 County Complex Court, Prince William, VA 22192 | Prince William County Department of Public Works, 5 County Complex Court, Prince William, VA 22192 | http://www.msc.fema.gov/lomc | Jan 2, 2017 | 510119

[FR Doc. 2016-28528 Filed 11-25-16; 8:45 am]

BILLING CODE 9110-12-P